DEPARTMENT OF ENERGY

Federal Energy Regulatory Commission

Combined Notice of Filings #2

Take notice that the Commission received the following electric rate filings:

Docket Numbers: ER10-1852-016.

Applicants: Florida Power & Light Company.

Description: Notification of Change in Status of Florida Power & Light Company.

Filed Date: 1/30/17.

Accession Number: 20170130-5409.

Comments Due: 5 p.m. ET 2/21/17.

Docket Numbers: ER10-2633-030; ER10-2570-030; ER10-2717-030; ER10-3140-030; ER13-55-020.

Applicants: Birchwood Power Partners, L.P., Shady Hills Power Company, L.L.C., EFS Parlin Holdings, LLC, Inland Empire Energy Center, LLC, Homer City Generation, L.P.

Description: Notice of Non-Material Change in Status of the GE Companies.

Filed Date: 1/30/17.

Accession Number: 20170130-5422.

Comments Due: 5 p.m. ET 2/21/17.

Docket Numbers: ER10-2912-005.

Applicants: Alliance For Cooperative Energy Services Power Marketing LLC.

Description: Notice of Change in Status of Alliance for Cooperative Energy Services Power Marketing LLC.

Filed Date: 1/30/17.

Accession Number: 20170130-5410.

Comments Due: 5 p.m. ET 2/21/17.

Docket Numbers: ER10-2964-012.

Applicants: Selkirk Cogen Partners, L.P.

Description: Notice of Non-Material Change in Status of Selkirk Cogen Partners, L.P.

Filed Date: 1/30/17.

Accession Number: 20170130-5412.

Comments Due: 5 p.m. ET 2/21/17.

Docket Numbers: ER10-2984-035.

Applicants: Merrill Lynch Commodities, Inc.

Description: Notice of Non-Material Change in Status of Merrill Lynch Commodities, Inc.

Filed Date: 1/30/17.

Accession Number: 20170130-5403.

Comments Due: 5 p.m. ET 2/21/17.

Docket Numbers: ER11-4436-004; ER10-2473-005; ER10-2502-005; ER10-2472-005; ER11-2724-006.

Applicants: Black Hills Power, Inc., Cheyenne Light, Fuel & Power Company, Black Hills/Colorado Electric Utility Company, LP, Black Hills Wyoming, LLC, Black Hills Colorado IPP, LLC.

Description: Notice of Change in Status of Black Hills MBR Sellers.

Filed Date: 1/30/17.

Accession Number: 20170130-5411.

Comments Due: 5 p.m. ET 2/21/17.

Docket Numbers: ER16-2577-001; ER16-2653-001.

Applicants: Lindahl Wind Project, LLC, Cimarron Bend Wind Project I, LLC.

Description: Notice of Non-Material Change in Status of Lindahl Wind Project, LLC, et. al.

Filed Date: 1/30/17.

Accession Number: 20170130-5407.

Comments Due: 5 p.m. ET 2/21/17.

Docket Numbers: ER16-2653-003.

Applicants: Cimarron Bend Wind Project I, LLC.

Description: Notice of Non-Material Change in Status of Cimarron Bend Wind Project I, LLC.

Filed Date: 1/30/17.

Accession Number: 20170130-5413.

Comments Due: 5 p.m. ET 2/21/17.

Docket Numbers: ER16-2687-001.

Applicants: Chisholm View Wind Project II, LLC.

Description: Notice of Non-Material Change in Status of Chisholm View Wind Project II, LLC.

Filed Date: 1/30/17.

Accession Number: 20170130-5408.

Comments Due: 5 p.m. ET 2/21/17.

Docket Numbers: ER17-891-001.

Applicants: Louisville Gas and Electric Company.

Description: Tariff Amendment: Errata IMEA-IMPA Revised PTP Svc Agmts to be effective 2/1/2017.

Filed Date: 1/31/17.

Accession Number: 20170131-5213.

Comments Due: 5 p.m. ET 2/21/17.

Docket Numbers: ER17-898-000.

Applicants: PJM Interconnection, L.L.C.

Description: Tariff Cancellation: Notice of Cancellation of WMPA SA No. 4260, Queue No. AB1-022 to be effective 3/10/2017.

Filed Date: 1/31/17.

Accession Number: 20170131-5108.

Comments Due: 5 p.m. ET 2/21/17.

Docket Numbers: ER17-899-000.

Applicants: New England Power Pool Participants Committee.

Description: § 205(d) Rate Filing: Feb 2017 Membership Filing to be effective 1/1/2017.

Filed Date: 1/31/17.

Accession Number: 20170131-5126.

Comments Due: 5 p.m. ET 2/21/17.

Docket Numbers: ER17-900-000.

Applicants: Midcontinent Independent System Operator, Inc.

Description: § 205(d) Rate Filing: 2017-01-31_Revisions to Attachment J for DNR timing requirements to be effective 3/1/2017.

Filed Date: 1/31/17.

Accession Number: 20170131-5187.

Comments Due: 5 p.m. ET 2/21/17.

Docket Numbers: ER17-901-000.

Applicants: Avista Corporation.

Description: § 205(d) Rate Filing: Avista Corp Construction Agrmt Chewelah Substation SA T1137 to be effective 4/1/2017.

Filed Date: 1/31/17.

Accession Number: 20170131-5192.

Comments Due: 5 p.m. ET 2/21/17.

Docket Numbers: ER17-902-000.

Applicants: Avista Corporation.

Description: § 205(d) Rate Filing: Avista Corp BPA Parallel Capacity Support Agreement to be effective 2/1/2017.

Filed Date: 1/31/17.

Accession Number: 20170131-5205.

Comments Due: 5 p.m. ET 2/21/17.

Docket Numbers: ER17-903-000.

Applicants: PJM Interconnection, L.L.C.

Description: § 205(d) Rate Filing: 4th Quarter 2016 Update to OA and RAA Member Lists to be effective 12/31/2016.

Filed Date: 1/31/17.

Accession Number: 20170131-5233.

Comments Due: 5 p.m. ET 2/21/17.

Docket Numbers: ER17-904-000.

Applicants: Southwest Power Pool, Inc.

Description: § 205(d) Rate Filing: 3126R2 WAPA NITSA and NOA to be effective 1/1/2017.

Filed Date: 1/31/17.

Accession Number: 20170131-5237.

Comments Due: 5 p.m. ET 2/21/17.

Docket Numbers: ER17-905-000.

Applicants: New York Independent System Operator, Inc., PJM Interconnection, L.L.C.

Description: § 205(d) Rate Filing: NYISO PJM filing re: JOA revisions: Interchange scheduling & M-to-M coordination to be effective 5/1/2017.

Filed Date: 1/31/17.

Accession Number: 20170131-5261.

Comments Due: 5 p.m. ET 2/21/17.

Docket Numbers: ER17-906-000.

Applicants: Southwest Power Pool, Inc.

Description: § 205(d) Rate Filing: 3294 Otter Tail Power Company NITSA and NOA to be effective 1/1/2017.

Filed Date: 1/31/17.

Accession Number: 20170131-5269.

Comments Due: 5 p.m. ET 2/21/17.

Docket Numbers: ER17-907-000.

Applicants: International Paper Company.

Description: § 205(d) Rate Filing: Revisions to Market Based Rate to be effective 2/1/2017.

Filed Date: 1/31/17.

Accession Number: 20170131-5272.

Comments Due: 5 p.m. ET 2/21/17.

Docket Numbers: ER17-908-000.

Applicants: American Transmission Systems, Incorporated, PJM Interconnection, L.L.C.

Description: § 205(d) Rate Filing: ATSI Submits ECSAs Nos. 4556 and 4557 to be effective 4/1/2017.

Filed Date: 1/31/17.

Accession Number: 20170131-5274.

Comments Due: 5 p.m. ET 2/21/17.

Docket Numbers: ER17-909-000.

Applicants: Central Maine Power Company.

Description: § 205(d) Rate Filing: Executed Interconnection Agreement with ReEnergy Livermore Falls LLC to be effective 1/1/2017.

Filed Date: 1/31/17.

Accession Number: 20170131-5277.

Comments Due: 5 p.m. ET 2/21/17.

Docket Numbers: ER17-910-000.

Applicants: Pacific Gas and Electric Company.

Description: § 205(d) Rate Filing: Quarterly Filing of City and County of San Francisco's WDT SA 275 for Q4 2016 to be effective 12/31/2016.

Filed Date: 1/31/17.

Accession Number: 20170131-5307.

Comments Due: 5 p.m. ET 2/21/17.

Docket Numbers: ER17-911-000.

Applicants: Southwest Power Pool, Inc.

Description: § 205(d) Rate Filing: Revisions to Update Attachment AF—Frequently Constrained Areas to be effective 4/1/2017.

Filed Date: 1/31/17.

Accession Number: 20170131-5318.

Comments Due: 5 p.m. ET 2/21/17.

Take notice that the Commission received the following public utility holding company filings:

Docket Numbers: PH17-8-000.

Applicants: Southwest Gas Holdings, Inc., Southwest Gas Utility Group, Inc.

Description: Southwest Gas Holdings, Inc., et. al. submits FERC 65-A Exemption Notification.

Filed Date: 1/30/17.

Accession Number: 20170130-5419.

Comments Due: 5 p.m. ET 2/21/17.

Docket Numbers: PH17-9-000.

Applicants: Cube Yadkin Transmission LLC, Cube Hydro Carolinas, LLC, Helix Holdco LLC, Helix Partners LLC, I Squared Capital.

Description: Cube Yadkin Transmission LLC, et al. submits ERC 65-B Waiver Notification.

Filed Date: 1/30/17.

Accession Number: 20170130-5423.

Comments Due: 5 p.m. ET 2/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2017.
Nathaniel J. Davis, Sr.,
Deputy Secretary.

[FR Doc. 2017-02391 Filed 2-3-17; 8:45 am]

BILLING CODE 6717-01-P